DEPARTMENT OF AGRICULTURE

Forest Service

Secure Rural Schools Resource Advisory Committees

AGENCY: Forest Service, USDA.

ACTION: Notice of Intent to Renew the Secure Rural School Resource Advisory Committees

SUMMARY: The Secretary of Agriculture intends to renew the charter for the Secure Rural Schools Resource Advisory Committees (RACs) pursuant to the Secure Rural Schools and Community Self-Determination Act of 2000 (the Act) (Pub. L. 110-343) and operates in compliance with the Federal Advisory Committee Act (FACA) (Pub. L. 92-463). The purpose of the RACs is to improve collaborative relationships among the people that use and care for the National Forests and to provide advice and recommendations to the Forest Service concerning projects and funding consistent with Title II of the Act. Additional information concerning the RACs can be found by visiting the Secure Rural School Web site at: http://www.fs.usda.gov/pts/.

FOR FURTHER INFORMATION CONTACT: Alicia Bell-Sheeter, Acting Secure Rural Schools Program Manager, USDA Forest Service, 1400 Independence Avenue Southwest, Mail Stop 1158, Washington, DC 20250; or by email at ambellsheeter@fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Background

On October 2, 2013, the Helium Stewardship Act of 2013 (Pub. L. 113-40) reauthorized the Act. In accordance with the provisions of FACA, the Secretary of Agriculture intends to renew the charter for the RACs. The Secretary has determined the work of the RACs is in the public interest and relevant to the duties of the Department of Agriculture. Renewing the RACs is to ensure that line officers responsible for implementing Title II projects have efficient and effective access to the advice from stakeholders. Equally important, the RACs operation encourages early and continuous coordination among Forest land management agencies, and others to participate openly and meaningfully in planning and implementing projects to benefit communities and forest health.

RAC Membership

The RACs consist of 15 members appointed by the Secretary of Agriculture and consist of members who represent the interests of the following three categories:

(1) Five persons who represent:

(a) Organized Labor or Non-Timber Forest Product Harvester Groups;

(b) Developed Outdoor Recreation, Off-Highway Vehicle Users, or Commercial Recreation Activities;

(c) Energy and Mineral Development, or Commercial or Recreational Fishing Groups;

(d) Commercial Timber Industry; or

(e) Federal Grazing Permit or Other Land Use Permit Holders, or Representative of Non-Industrial Private Forest Land Owners, within the area for which the committee is organized.

(2) Five persons who represent:

(a) Nationally or Regionally Recognized Environmental Organizations;

(b) Regionally or Locally Recognized Environmental Organizations;

(c) Dispersed Recreational Activities;

(d) Archaeology and History; or

(e) Nationally or Regionally Recognized Wild Horse and Burro Interest, Wildlife Hunting Organizations, or Watershed Associations.

(3) Five persons who represent:

(a) Hold State-Elected Office;

(b) Hold County or Local-Elected Office;

(c) American Indian Tribes within or adjacent to the area for which the committee is organized;

(d) Area School Officials or Teachers; or

(e) Affected Public-At-Large.

No individual who is currently registered as a Federal lobbyist is eligible to serve as a member of the RAC. Members of the RAC serve without compensation, but may be reimbursed for travel expenses while performing duties on behalf of the RAC, subject to approval by the Designated Federal Official (DFO). The RAC members serve 4-year terms and shall reside within the State(s) in which the committee is organized. To the extent practical, the membership of each of the three categories will include residents in the vicinity of the national forest for which the committee provides advice.

The Secretary may appoint replacements for each of the three membership categories who may serve on the committee in the event a vacancy arises. If an appropriate replacement is unavailable, nominees will be sought through an open and public process and submitted to the Secretary for vetting, approval, and appointment.

Equal opportunity practices in accordance with U.S. Department of Agriculture (USDA) policies shall be followed in all appointments to the RACs. To ensure that the recommendations of the RACs have been taken into account, the needs of the diverse groups served by the Departments, membership should include, to the extent practicable, individuals with demonstrated ability to represent all racial and ethnic groups, women and men, and persons with disabilities.

Dated: June 10 2014.
Malcom A. Shorter,
Deputy Assistant Secretary for Administration.

[FR Doc. 2014-14046 Filed 6-13-14; 8:45 am]

BILLING CODE 3411-15-P